DEPARTMENT OF HOMELAND SECURITY

Federal Emergency Management Agency

[Docket ID FEMA-2018-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Date of modification | Community No.
Alabama:
Shelby (FEMA Docket No.: B-1848) | City of Helena (18-04-2020P) | The Honorable Mark R. Hall, Mayor, City of Helena, 816 Highway 52 East, Helena, AL 35080 | City Hall, 816 State Route 82, Helena, AL 35080 | Nov. 10, 2018 | 010294
Shelby (FEMA Docket No.: B-1845) | City of Montevallo (18-04-1231P) | The Honorable Hollie Cost, Mayor, City of Montevallo, 541 Main Street, Montevallo, AL 35115 | City Hall, 541 Main Street, Montevallo, AL 35115 | Oct. 25, 2018 | 010349
Shelby (FEMA Docket No.: B-1845) | Unincorporated Areas of Shelby County (18-04-1231P) | The Honorable Jon Parker, Chairman, Shelby County Board of Commissioners, 200 West College Street, Columbiana, AL 35051 | Shelby County Engineering Department, 506 Highway 70, Columbiana, AL 35051 | Oct. 25, 2018 | 010191
Colorado:
Boulder (FEMA Docket No.: B-1848) | City of Boulder (17-08-1389P) | The Honorable Suzanne Jones, Mayor, City of Boulder, P.O. Box 791, Boulder, CO 80306 | City Hall, 1777 Broadway Street, Boulder, CO 80302 | Nov. 5, 2018 | 080024
Boulder (FEMA Docket No.: B-1845) | City of Boulder (18-08-0256P) | The Honorable Suzanne Jones, Mayor, City of Boulder, 1777 Broadway Street, Boulder, CO 80302 | City Hall, 1777 Broadway Street, Boulder, CO 80302 | Nov. 2, 2018 | 080024
Boulder (FEMA Docket No.: B-1848) | Unincorporated areas of Boulder County (17-08-1389P) | The Honorable Cindy Domenico, Chair, Boulder County Board of Commissioners, P.O. Box 471, Boulder, CO 80306 | Boulder County Transportation Department, 2525 13th Street, Suite 203, Boulder, CO 80304 | Nov. 5, 2018 | 080023
Douglas (FEMA Docket No.: B-1848) | Unincorporated areas of Douglas County (17-08-1321P) | The Honorable Lora Thomas, Chair, Douglas County Board of Commissioners, 100 3rd Street, Castle Rock, CO 80104 | Douglas County Public Works Department, Engineering Division, 100 3rd Street, Castle Rock, CO 80104 | Nov. 9, 2018 | 080049
Montrose (FEMA Docket No.: B-1852) | City of Montrose (17-08-1374P) | Mr. William Bell, City Manager, City of Montrose, P.O. Box 790, Montrose, CO 81402 | Engineering Department, 1221 6450 Road, Montrose, CO 81401 | Nov. 9, 2018 | 080125
Montrose (FEMA Docket No.: B-1852) | Unincorporated areas of Montrose County (17-08-1374P) | The Honorable Keith Caddy, Chairman, Montrose County Board of Commissioners, 317 South 2nd Street, Montrose, CO 81401 | Montrose County Public Works Department, 949 North 2nd Street, Montrose, CO 81401 | Nov. 9, 2018 | 080124
Connecticut: Fairfield (FEMA Docket No.: B-1848) | Town of Darien (18-01-1237P) | The Honorable Jayme J. Stevenson, First Selectwoman, Town of Darien Board of Selectmen, 2 Renshaw Road, Darien, CT 06820 | Planning and Zoning Department, 2 Renshaw Road, Darien, CT 06820 | Nov. 13, 2018 | 090005
Florida:
Collier (FEMA Docket No.: B-1852) | City of Naples (18-04-4561P) | The Honorable Bill Barnett, Mayor, City of Naples, 735 8th Street South, Naples, FL 34102 | Building Department, 295 Riverside Circle, Naples, FL 34102 | Nov. 9, 2018 | 125130
Duval (FEMA Docket No.: B-1845) | City of Atlantic Beach (17-04-4155P) | The Honorable Ellen E. Glasser, Mayor, City of Atlantic Beach, 800 Seminole Road, Atlantic Beach, FL 32233 | City Hall, 800 Seminole Road, Atlantic Beach, FL 32233 | Nov. 5, 2018 | 120075
Duval (FEMA Docket No.: B-1845) | City of Jacksonville (17-04-4155P) | The Honorable Lenny Curry, Mayor, City of Jacksonville, 117 West Duval Street, Suite 400, Jacksonville, FL 32202 | City Hall, 214 North Hogan Street, Suite 2100, Jacksonville, FL 32202 | Nov. 5, 2018 | 120077
Lee (FEMA Docket No.: B-1845) | City of Sanibel (18-04-3742P) | The Honorable Kevin Ruane, Mayor, City of Sanibel, 800 Dunlop Road, Sanibel, FL 33957 | Planning Department, 800 Dunlop Road, Sanibel, FL 33957 | Oct. 25, 2018 | 120402
Lee (FEMA Docket No.: B-1845) | City of Sanibel (18-04-3819P) | The Honorable Kevin Ruane, Mayor, City of Sanibel, 800 Dunlop Road, Sanibel, FL 33957 | Planning Department, 800 Dunlop Road, Sanibel, FL 33957 | Oct. 26, 2018 | 120402
Monroe (FEMA Docket No.: B-1845) | Unincorporated areas of Monroe County (18-04-3568P) | The Honorable David Rice, Mayor, Monroe County Board of Commissioners, 1100 Simonton Street, Key West, FL 33040 | Monroe County Building Department, 2798 Overseas Highway, Suite 300, Marathon, FL 33050 | Oct. 22, 2018 | 125129
Monroe (FEMA Docket No.: B-1848) | Unincorporated areas of Monroe County (18-04-4286P) | The Honorable David Rice, Mayor, Monroe County Board of Commissioners, 9400 Overseas Highway, Suite 210, Marathon, FL 33050 | Monroe County Building Department, 2798 Overseas Highway, Suite 300, Marathon, FL 33050 | Oct. 31, 2018 | 125129
Monroe (FEMA Docket No.: B-1848) | Unincorporated areas of Monroe County (18-04-4294P) | The Honorable David Rice, Mayor, Monroe County Board of Commissioners, 9400 Overseas Highway, Suite 210, Marathon, FL 33050 | Monroe County Building Department, 2798 Overseas Highway, Suite 300, Marathon, FL 33050 | Nov. 13, 2018 | 125129
Monroe (FEMA Docket No.: B-1845) | Village of Islamorada (18-04-3795P) | The Honorable Chris Sante, Mayor, Village of Islamorada, 86800 Overseas Highway, Islamorada, FL 33036 | Planning and Development Department, 86800 Overseas Highway, Islamorada, FL 33036 | Oct. 26, 2018 | 120424
Orange (FEMA Docket No.: B-1848) | City of Orlando (17-04-3097P) | The Honorable Buddy Dyer, Mayor, City of Orlando, P.O. Box 4990, Orlando, FL 32802 | Information Technology Division, 400 South Orange Avenue, 8th Floor, Orlando, FL 32801 | Nov. 9, 2018 | 120186
Kentucky: Jefferson (FEMA Docket No.: B-1848) | Louisville-Jefferson County Metro Government (18-04-3582P) | The Honorable Greg Fischer, Mayor, Louisville-Jefferson County Metro, Government, 527 West Jefferson Street, Louisville, KY 40202 | Louisville-Jefferson County Metropolitan Sewer District, 700 West Liberty Street, Louisville, KY 40203 | Nov. 13, 2018 | 210120
Maryland: Prince George's (FEMA Docket No.: B-1845) | Unincorporated areas of Prince George's County (18-03-0330P) | The Honorable Rushern L. Baker, III, Prince George's County Executive, 14741 Governor Oden Bowie Drive, Upper Marlboro, MD 20772 | Prince George's County Department of Environment, 1801 McCormick Drive, Suite 500, Largo, MD 20774 | Nov. 2, 2018 | 245208
Massachusetts: Norfolk (FEMA Docket No.: B-1848) | City of Quincy (18-01-0033P) | The Honorable Thomas P. Koch, Mayor, City of Quincy, 1305 Hancock Street, Quincy, MA 02169 | City Hall, 1305 Hancock Street, Quincy, MA 02169 | Nov. 9, 2018 | 255219
New Hampshire: Rockingham (FEMA Docket No.: B-1845) | Town of Exeter (18-01-0144P) | The Honorable Julie Gilman, Chair, Town of Exeter Select Board, 10 Front Street, Exeter, NH 03833 | Building Department, 10 Front Street, Exeter, NH 03833 | Nov. 5, 2018 | 330130
New Mexico: Santa Fe (FEMA Docket No.: B-1848) | Unincorporated areas of Santa Fe County (18-06-0707P) | Ms. Katherine Miller, Manager, Santa Fe County, 102 Grant Avenue, Santa Fe, NM 87501 | Santa Fe County Building and Development Services Department, 102 Grant Avenue, Santa Fe, NM 87501 | Nov. 13, 2018 | 350069
North Carolina: Duplin (FEMA Docket, No.: B-1848) | Unincorporated areas of Duplin County (18-04-2016P) | The Honorable Jesse Dowe, Chairman, Duplin County Board of Commissioners, 224 Seminary Street, Kenansville, NC 28349 | Duplin County Planning Department, 117 Beasley Street, Kenansville, NC 28349 | Oct. 26, 2018 | 370083
Pennsylvania:
Lebanon (FEMA Docket No.: B-1848) | Township of Jackson (18-03-1094P) | The Honorable Thomas M. Houtz, Chairman, Township of Jackson Board of Supervisors, 60 North Ramona Road, Myerstown, PA 17067 | Township Hall, 60 North Ramona Road, Myerstown, PA 17067 | Nov. 2, 2018 | 421805
Lebanon (FEMA Docket No.: B-1848) | Township of Millcreek (18-03-1094P) | The Honorable Donald Leibig, Chairman, Township of Millcreek Board of Supervisors, 81 East Alumni Avenue, Newmanstown, PA 17073 | Township Hall, 81 East Alumni Avenue, Newmanstown, PA 17073 | Nov. 2, 2018 | 420574
South Dakota:
Codington (FEMA Docket No.: B-1845) | City of Watertown (17-08-0664P) | The Honorable Sarah Caron, Mayor, City of Watertown, 23 2nd Street Northeast, Watertown, SD 57201 | Planning and Zoning Department, 23 2nd Street Northeast, Watertown, SD 57201 | Nov. 5, 2018 | 460016
Pennington (FEMA Docket No.: B-1848) | City of Rapid City (18-08-0082P) | The Honorable Steve Allender, Mayor, City of Rapid City, 300 6th Street, Rapid City, SD 57701 | Public Works Department, Engineering Services Division, 300 6th Street, Rapid City, SD 57701 | Nov. 2, 2018 | 465420
Pennington (FEMA Docket No.: B-1848) | Unincorporated areas of Pennington County (18-08-0082P) | The Honorable Lloyd LaCroix, Chairman, Pennington County Board of Commissioners, 130 Kansas City Street, Suite 100, Rapid City, SD 57701 | Pennington County Planning Department, 130 Kansas City Street, Suite 200, Rapid City, SD 57701 | Nov. 2, 2018 | 460064
Texas:
Bexar (FEMA Docket No.: B-1848) | Unincorporated areas of Bexar County (18-06-2600X) | The Honorable Nelson W. Wolff, Bexar County Judge, 101 West Nueva Street, 10th Floor, San Antonio, TX 78205 | Bexar County Public Works Department, 233 North Pecas-La Trinidad Street, Suite 420, San Antonio, TX 78207 | Nov. 5, 2018 | 480035
Dallas (FEMA Docket No.: B-1848) | City of University Park (18-06-0033P) | The Honorable Olin Burnett Lane, Jr., Mayor, City of University Park, 3800 University Boulevard, University Park, TX 75205 | Peek Service Center, 4420 Worcola Street, Dallas, TX 75206 | Nov. 5, 2018 | 480189
Dallas (FEMA Docket No.: B-1848) | Town of Highland Park (18-06-0033P) | The Honorable Margo Goodwin, Mayor, Town of Highland Park, 4700 Drexel Drive, Highland Park, TX 75205 | Engineering Department, 4700 Drexel Drive, Highland Park, TX 75205 | Nov. 5, 2018 | 480178
Denton (FEMA Docket No.: B-1848) | City of Denton (18-06-0017P) | The Honorable Chris A. Watts, Mayor, City of Denton, 215 East McKinney Street, Suite 100, Denton, TX 76201 | Engineering Services Department, 901-A Texas Street, Denton, TX 76509 | Nov. 7, 2018 | 480194
Denton (FEMA Docket No.: B-1852) | City of Sanger (18-06-0546P) | The Honorable Thomas Muir, Mayor, City of Sanger, P.O. Box 1729, Sanger, TX 76266 | City Hall, 201 Bolivar Street, Sanger, TX 76266 | Nov. 9, 2018 | 480786
Harris (FEMA Docket No.: B-1848) | Unincorporated areas of Harris County (18-06-0774P) | The Honorable Edward M. Emmett, Harris County Judge, 1001 Preston Street, Suite 911, Houston, TX 77002 | Harris County Permit Department, 10555 Northwest Freeway, Suite 120, Houston, TX 77002 | Oct. 29, 2018 | 480287
Harris (FEMA Docket No.: B-1848) | Unincorporated areas of Harris County (18-06-1830P) | The Honorable Edward M. Emmett, Harris County Judge, 1001 Preston Street, Suite 911, Houston, TX 77002 | Harris County Permit Department, 10555 Northwest Freeway, Suite 120, Houston, TX 77002 | Oct. 29, 2018 | 480287
McLennan (FEMA Docket No.: B-1848) | City of Waco (17-06-4092P) | Mr. Wiley Stem III, Manager, City of Waco, 300 Austin Avenue, Waco, TX 76702 | Public Works Department, 300 Austin Avenue, Waco, TX 76702 | Nov. 13, 2018 | 480461
Midland (FEMA Docket No.: B-1848) | City of Midland (18-06-1903P) | Mr. Courtney Sharp, Manager, City of Midland, 300 North Loraine Street, Midland, TX 79701 | City Hall, 300 North Loraine Street, Midland, TX 79701 | Nov. 5, 2018 | 480477
Midland (FEMA Docket No.: B-1848) | Unincorporated areas of Midland County (18-06-1903P) | The Honorable Michael R. Bradford, Midland County Judge, 500 North Loraine Street, Suite 1100, Midland, TX 79701 | Midland County Department of Emergency Management, 500 North Loraine Street, Suite 1100, Midland, TX 79701 | Nov. 5, 2018 | 481239
Montgomery (FEMA Docket No.: B-1848) | Unincorporated areas of Montgomery County (18-06-1830P) | The Honorable Craig B. Doyal, Montgomery County Judge, 501 North Thompson Street, Suite 401, Conroe, TX 77301 | Montgomery County Commissioners Court Building, 501 North Thompson Street, Suite 103, Conroe, TX 77301 | Oct. 29, 2018 | 480483
Tarrant (FEMA Docket No.: B-1852) | City of Fort Worth (18-06-1306P) | The Honorable Betsy Price, Mayor, City of Fort Worth, 200 Texas Street, Fort Worth, TX 76102 | Transportation and Public Works Engineering Department, 200 Texas Street, Fort Worth, TX 76102 | Nov. 13, 2018 | 480596
Tarrant (FEMA Docket No.: B-1852) | Unincorporated areas of Tarrant County (18-06-1306P) | The Honorable B. Glen Whitley, Tarrant County Judge, 100 East Weatherford Street, Fort Worth, TX 76196 | Tarrant County Engineering Department, 100 East Weatherford Street, Fort Worth, TX 76196 | Nov. 13, 2018 | 480582
Wyoming: Teton (FEMA Docket No.: B-1848) | Unincorporated areas of Teton County (18-08-0225P) | The Honorable Mark Newcomb, Chairman, Teton County Board of Commissioners, P.O. Box 3594, Jackson, WY 83001 | Teton County Public Works Department, 320 South King Street, Jackson, WY 83001 | Nov. 1, 2018 | 560094

[FR Doc. 2018-26943 Filed 12-12-18; 8:45 am]

BILLING CODE 9110-12-P